DEPARTMENT OF THE INTERIOR

Bureau of Land Management

[MT-924-1430-ET; SDM 87066]

Opening of Land in a Proposed Withdrawal; Montana

AGENCY: Bureau of Land Management, Interior.

ACTION: Notice.

SUMMARY: The temporary 2-year segregation of a proposed withdrawal of .25 acre of National Forest System land for the National Park Service for construction of temporary quarters for summer seasonal employees expires on March 19, 2000, after which the land will be open to surface entry and mining, subject to other segregations of record. The land has been and remains open to mineral leasing.

EFFECTIVE DATE: March 19, 2000.

FOR FURTHER INFORMATION CONTACT: Sandra Ward, BLM Montana State Office, P.O. Box 36800, Billings, Montana 59107, 406-896-5052.

SUPPLEMENTARY INFORMATION: A Notice of Proposed Withdrawal was published in the Federal Register, 63 FR 13687, March 20, 1998, which segregated the land described therein for up to 2 years from settlement, sale, location or entry under the general land laws, including the mining laws, subject to valid existing rights, but not from other forms of disposition which may by law be made of National Forest System land or the mineral leasing laws. The 2-year segregation expires March 19, 2000. The withdrawal application will continue to be processed, unless it is canceled or denied. The land is described as follows:

Black Hills Meridian

T. 3 S., R. 4 E.,

Sec. 23, portion of the S½ of lot 19.

The area described contains .25 acre in Custer County.

At 9 a.m. on October 19, 2000, the land will be opened to such forms of disposition as may by law be made of National Forest System land, including location and entry under the United States mining laws, subject to valid existing rights, the provisions of existing withdrawals, other segregations of record, and the requirements of applicable law. Appropriation of any lands described in this order under the general mining laws prior to the date and time of restoration is unauthorized. Any such attempted appropriation, including attempting adverse possession under 30 U.S.C. 38 (1988), shall vest no rights against the United States. Acts required to establish a location and to initiate a right of possession are governed by State law where not in conflict with Federal law. The Bureau of Land Management will not intervene in disputes between rival locators over possessory rights, since Congress has provided for such determinations in local courts.

Dated: January 27, 2000.
Howard A. Lemm,
Acting Deputy State Director, Division of Resources.

[FR Doc. 00-3267 Filed 2-10-00; 8:45 am]

BILLING CODE 4310-DN-P